DEPARTMENT OF THE TREASURY

Office of Foreign Assets Control

Designation of Persons Whose Property and Interests in Property Are Blocked Pursuant to Executive Order 13664 of April 3, 2014, “Blocking Property of Certain Persons With Respect to South Sudan.”

AGENCY: Office of Foreign Assets Control, Treasury.

ACTION: Notice.

SUMMARY: The Treasury Department's Office of Foreign Assets Control (“OFAC”) is publishing the names of 2 individuals whose property and interests in property are blocked pursuant to Executive Order 13664 of April 3, 2014, “Blocking Property of Certain Persons With Respect to South Sudan.”

FOR FURTHER INFORMATION CONTACT: Assistant Director, Compliance Outreach & Implementation, Office of Foreign Assets Control, Department of the Treasury, 1500 Pennsylvania Avenue NW (Treasury Annex), Washington, DC 20220, Tel.: 202/622-2490.

SUPPLEMENTARY INFORMATION:

Electronic and Facsimile Availability

The List of Specially Designated Nationals and Blocked Persons (“SDN List”) and additional information concerning OFAC are available from OFAC's Web site (www.treas.gov/ofac). Certain general information pertaining to OFAC's sanctions programs also is available via facsimile through a 24-hour fax-on-demand service, tel.: 202/622-0077.

Background

On April 3, 2014, the President issued the Executive Order “Blocking Property of Certain Persons With Respect to South Sudan” (the “Order”) pursuant to, inter alia, the International Emergency Economic Powers Act (50 U.S.C. 1701-06). In the Order, the President declared a national emergency to address the unusual and extraordinary threat to the national security and foreign policy of the United States posed by activities that threaten the peace, security, or stability of South Sudan and the surrounding region, including widespread violence and atrocities, human rights abuses, recruitment and use of child soldiers, attacks on peacekeepers, and obstruction of humanitarian operations.

Section 1 of the Order blocks, with certain exceptions, all property and interests in property that are in the United States, that come within the United States, or that are or come within the possession or control of any United States person and of persons determined by the Secretary of the Treasury, in consultation with the Secretary of State, to satisfy certain criteria set forth in the Order. On May 6, 2014, the Director of OFAC, in consultation with the Department of State, designated, pursuant to one or more of the criteria set forth in Section 1 of the Order, the following 2 individuals, whose names have been added to the list of Specially Designated Nationals and Blocked Persons and whose property and interests in property are blocked pursuant to Executive Order 13664:

1. MANGOK, Marial Chanuong Yol (a.k.a. CHINOUM, Marial; a.k.a. CHINUONG, Marial; a.k.a. YOL, Marial Chanoung; a.k.a. “CHAN, Marial”); DOB 01 Jan 1960; POB Yirol, Lakes State; Commander, Presidential Guard Unit; Major General, Sudan People's Liberation Army (individual) [SOUTH SUDAN].

2. GADET, Peter (a.k.a. GATDET, Peter; a.k.a. YAAK, Peter Gadet; a.k.a. YAAK, Peter Gatdet; a.k.a. YAK, Peter Gadet; a.k.a. YAKA, Peter Gatdeet; a.k.a. YAKA, Peter Gatdet); DOB 1957 to 1959; POB Mayon County Unity State; alt. POB Mayan, Unity State; General (individual) [SOUTH SUDAN].

Dated: May 6, 2014.
Adam J. Szubin,
Director, Office of Foreign Assets Control.

[FR Doc. 2014-11409 Filed 5-15-14; 8:45 am]

BILLING CODE 4810-AL-P